DEPARTMENT OF ENERGY

Federal Energy Regulatory Commission

[Docket No. IC10-582-001]

Commission Information Collection Activities (FERC-582); Comment Request; Submitted for OMB Review

September 29, 2010.

AGENCY: Federal Energy Regulatory Commission.

ACTION: Notice.

SUMMARY: In compliance with the requirements of section 3507 of the Paperwork Reduction Act of 1995, 44 U.S.C. 3507, the Federal Energy Regulatory Commission (Commission or FERC) has submitted the information collection described below to the Office of Management and Budget (OMB) for review of the information collection requirements. Any interested person may file comments directly with OMB and should address a copy of those comments to the Commission as explained below. The Commission issued a Notice in the Federal Register (75 FR 44781, 07/29/2010) requesting public comments. FERC received comments from one commenter and has made this notation in its submission to OMB.

DATES: Comments on the collection of information are due by November 4, 2010.

ADDRESSES: Address comments on the collection of information to the Office of Management and Budget, Office of Information and Regulatory Affairs, Attention: Federal Energy Regulatory Commission Desk Officer. Comments to OMB should be filed electronically, c/o oira_submission@omb.eop.gov and include OMB Control Number 1902-0132 for reference. The Desk Officer may be reached by telephone at 202-395-4638.

A copy of the comments should also be sent to the Federal Energy Regulatory Commission and should refer to Docket No. IC10-582-001. Comments may be filed either electronically or in paper format. Those persons filing electronically do not need to make a paper filing. Documents filed electronically via the Internet must be prepared in an acceptable filing format and in compliance with the Federal Energy Regulatory Commission submission guidelines. Complete filing instructions and acceptable filing formats are available at http://www.ferc.gov/help/submission-guide.asp. To file the document electronically, access the Commission's website and click on Documents & Filing, E-Filing (http://www.ferc.gov/docs-filing/efiling.asp), and then follow the instructions for each screen. First time users will have to establish a user name and password. The Commission will send an automatic acknowledgement to the sender's e-mail address upon receipt of comments.

For paper filings, the comments should be submitted to the Federal Energy Regulatory Commission, Secretary of the Commission, 888 First Street, NE., Washington, DC 20426, and should refer to Docket No. IC10-582-001.

Users interested in receiving automatic notification of activity in FERC Docket Number IC10-582-001 may do so through eSubscription at http://www.ferc.gov/docs-filing/esubscription.asp. All comments may be viewed, printed or downloaded remotely via the Internet through FERC's homepage using the “eLibrary” link. For user assistance, contact ferconlinesupport@ferc.gov or toll-free at (866) 208-3676, or for TTY, contact (202) 502-8659.

FOR FURTHER INFORMATION CONTACT: Ellen Brown may be reached by e-mail at DataClearance@FERC.gov, by telephone at (202) 502-8663, and by fax at (202) 273-0873.

SUPPLEMENTARY INFORMATION: The information required by FERC-582, “Electric Fees; Annual Charges; Waivers; and Exemptions;” OMB Control No. 1902-0132, covers the filing requirements in the Code of Federal Regulations (CFR) under Title 18, Part 381 ¹ and Part 382.²

¹ Title 18 CFR, Sections 381.105, 381.106, 381.108, 381.302, and 381.305.

² Title 18 CFR, Sections 382.102, 382.103, 382.105, 382.106, and 382.201.

FERC-582 is used by the Commission to implement the statutory provisions of the Independent Offices Appropriation Act of 1952 (IOAA) (31 U.S.C. 9701) which authorizes the Commission to establish fees for its services.³ In addition, the Omnibus Budget Reconciliation Act of 1986 (OBRA) (42 U.S.C. 7178) authorizes the Commission “to assess and collect fees and annual charges in any fiscal year in amounts equal to all the costs incurred by the Commission in that fiscal year.”

³ The most recent “Annual Update of Filing Fees” was issued on 1/20/2010 and is posted at http://elibrary.ferc.gov/idmws/common/opennat.asp?fileID=12249237. Other reporting requirements, associated with the estimation of annual charges or filing fees, are separate from the FERC-582 and not a subject of Docket Number IC10-582 or the FERC-582 clearance request. They are approved separately by OMB and include: (a) FERC-583 (“Annual Kilowatt Generating Report (Annual Charges),” OMB Control Number 1902-0136) for hydropower generation facilities; (b) FERC Form No. 2 (Major Natural Gas Pipeline Annual Report, OMB Control Number 1902-0028), FERC Form No. 2A (Non-Major Natural Gas Pipeline Annual Report, OMB Control Number 1902-0030), and FERC Form No. 6 (Annual Report of Oil Pipeline Companies, OMB Control Number 1902-0022) for estimating charges for natural gas and oil pipelines; and (c) FERC-587 (Land Description: Public Land States/Non-Public Land States (Rectangular or Non Rectangular Survey System Lands in Public Land States); OMB Control Number 1902-0145) for estimating fees associated with the use of Federal lands.

In calculating electric fees and annual charges, the Commission first determines the total costs of its electric regulatory program and then subtracts all electric regulatory program filing fee collections to determine the total collectible electric regulatory program costs. The data submitted under FERC-582 ⁴ is used to determine the annual charge levied on each utility and is based on the total megawatt-hours (MWh) of transmission of electric energy in interstate commerce. This is measured by the sum of the MWh of all unbundled transmission (including MWh delivered in wheeling transactions and MWh delivered in exchange transactions) and the MWh of all bundled wholesale power sales (to the extent these later MWh were not separately reported as unbundled transmission).

⁴ FERC-582 Annual Charges Reports are available in FERC's eLibrary system (at http://www.ferc.gov/docs-filing/elibrary.asp), by searching under the document class and type of “Report/Form/Annual Charges Report.”

Public utilities and power marketers subject to these annual charges must submit FERC-582 data to the Commission by April 30 of each year (18 CFR 382.201). The Commission issues bills for annual charges, and public utilities and power marketers then must pay the charges within 45 days of the Commission's issuance of the bill.

Requests for waivers and exemptions of fees and charges (required by 18 CFR Parts 381 and 382) are filed, based on need. The Commission's staff uses the filer's financial information to evaluate the request for a waiver or exemption of the obligation to pay a fee or an annual charge.

Public Comment and FERC response. Following is a summary of the comment filed by the public on FERC-582 reporting requirements, and FERC's response. For a more detailed explanation please see the Commission's submission to OMB at http://www.reginfo.gov/public/do/PRAMain, scroll to “Currently under Review”, key in “Federal Energy Regulatory Commission” and scroll to 1902-0132, “Electric Fees; Annual Charges; Waivers; and Exemptions;” (FERC-582).

General Comment Regarding Annual Fees and Charges: The commenter believes that the annual fees and charges levied on jurisdictional companies do not fully reflect the level of service provided to such companies. The commenter further indicates that the taxpayers are bearing the costs that corporate executives should be paying.

FERC's Response: Congress has directed the Commission to collect fees and annual charges equal to its expenses, and the Commission, in fact, collects fees and annual charges equal to its expenses. The Commission deposits the fees and annual charges that it collects with the Treasury. Therefore, the Commission is carrying out its statutory mandate, that is, the Commission is collecting the amount that Congress has directed that it collect.

Action: The Commission is requesting a three-year extension of FERC-582 reporting requirements, with no change.

Burden statement: The estimated annual burden figures and costs follow.

Information collection | No. of respondents | Average No. of reponses per respondent | Average burden hours per response | Total burden hours
| (1) | (2) | (3) | (1) × (2) × (3)
FERC-582 ¹,² (except 381.302, below) | 73 | 1 | 3 | 219
Exemption/waiver of fee for declaratory order (under 381.302) | 6 | 1 | 2 | 12
Total |  |  |  | 231

The total estimated annual cost burden to respondents is $15,312 (231 hours/2080 hours ⁵ per year, times $137,874 ⁶).

⁵ An employee works an estimated 2,080 hours per year.

⁶ The estimated average annual cost per employee is $137,874.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collections of information are necessary for the proper performance of the functions of the Commission, including whether the information will have practical utility; (2) the accuracy of the agency's estimates of the burden of the proposed collections of information, including the validity of the methodology and assumptions used; (3) ways to enhance the quality, utility and clarity of the information to be collected; and (4) ways to minimize the burden of the collections of information on those who are to respond, including the use of appropriate automated, electronic, mechanical, or other technological collection techniques or other forms of information technology, e.g. permitting electronic submission of responses.

Kimberly D. Bose,
Secretary.

[FR Doc. 2010-24973 Filed 10-4-10; 8:45 am]

BILLING CODE 6717-01-P